DEPARTMENT OF THE TREASURY

Internal Revenue Service

26 CFR Part 1

[REG-106590-00, REG-138499-02]

RIN 1545-AX95; RIN 1545-BB05

Depreciation of MACRS Property That Is Acquired in a Like-Kind Exchange or as a Result of an Involuntary Conversion; Correction

AGENCY: Internal Revenue Service (IRS), Treasury.

ACTION: Correction to notice of proposed rulemaking; notice of proposed rulemaking by cross-reference to temporary regulations; notice of public hearing; and partial withdrawal of proposed regulations.

SUMMARY: This document corrects a notice of proposed rulemaking; notice of proposed rulemaking by cross-reference to temporary regulations; notice of public hearing; and partial withdrawal of proposed regulations (REG-106590-00, REG-138499-02) that were published in the Federal Register on Monday, March 1, 2004 (69 FR 9560) relating to the depreciation of property subject to section 168 of the Internal Revenue Code (MACRS property).

FOR FURTHER INFORMATION CONTACT: Charles J. Magee, (202) 622-3110 (not a toll-free number).

SUPPLEMENTARY INFORMATION:

Background

The notice of proposed rulemaking; notice of proposed rulemaking by cross-reference to temporary regulations; notice of public hearing; and partial withdrawal of proposed regulations (REG-106590-00, REG-138499-02) that is the subject of this correction are under section 168 of the Internal Revenue Code.

Need for Correction

As published, the notice of proposed rulemaking; notice of proposed rulemaking by cross-reference to temporary regulations; notice of public hearing; and partial withdrawal of proposed regulations (REG-106590-00, REG-138499-02) contains errors that may prove to be misleading and is in need of clarification.

Correction of Publication

Accordingly, the notice of proposed rulemaking; notice of proposed rulemaking by cross-reference to temporary regulations; notice of public hearing; and partial withdrawal of proposed regulations (REG-106590-00, REG-138499-02), is corrected as follows:

1. On page 9560, column 3, in the preamble, under the caption SUMMARY, line 10, the language “(REG-139499-02) published July 21,” is corrected to read “(REG-138499-02) published July 21,”.

§ 1.168(i)-1 [Corrected]

2. On page 9562, column 1, § 1.168(i)-1, paragraph (e)(3)(iii)(B)(4), lines 1 through 4, the language “(4) (The text of the proposed amendment to § 1.168(i)-1(e)(3)(iii)(B)(4) is the same as the text of § 1.168(i)-1T(e)(3)(iii)(B)(4) published” is corrected to read “(4) (The text of the proposed amendment to § 1.168(i)-1(e)(3)(iii)(B)(4) is the same as the text of § 1.168(i)-1T(e)(3)(iii)(B)(4) published”.

1.168(k)-1 [Corrected]

3. On page 9562, column 2, § 1.168(k)-1, paragraph (g), line 3, the language “1(g)(1) is the same as § 1.168(g)-” is corrected to read “1(g)(1) is the same as § 1.168(k)-”.

Cynthia E. Grigsby,
Acting Chief, Publications and Regulations Branch, Legal Processing Division, Associate Chief Counsel (Procedures and Administration).

[FR Doc. 04-6961 Filed 3-29-04; 8:45 am]

BILLING CODE 4830-01-P